DEPARTMENT OF ENERGY

Federal Energy Regulatory Commission

[Project No. 906-000]

Dominion Virginia Power; Notice of Scoping Meetings and Soliciting Scoping Comments

March 19, 2004.

a. Type of Application: Initial Consultation Document (ICD) for a new major license.

b. Project No.: 906-000.

c. Date Filed: ICD filed July 11, 2003; license application anticipated June 15, 2006.

d. Applicant: Dominion Virginia Power.

e. Name of Project: Cushaw Hydroelectric Project.

f. Location: On the James River in Amherst and Bedford Counties, Virginia. The project occupies about 4.0 acres of Federal land administered by the U.S. Forest Service.

g. Filed Pursuant to: Federal Power Act, 16 U.S.C. 791 (a)-825(r).

h. Applicant Contact: Mr. James Thornton, Technical Advisor, F & H Operations Support, 5000 Dominion Blvd., 1 N.E., Glen Allen, VA 23060, telephone (804) 273-3257.

i. FERC Contact: John Smith, telephone (202) 502-8972, e-mail john.smith@ferc.gov.

j. Deadline for Filing Scoping Comments: May 24, 2004.

All documents (original and eight copies) should be filed with: Magalie R. Salas, Secretary, Federal Energy Regulatory Commission, 888 First Street, NE., Washington, DC 20426.

Scoping comments may be filed electronically via the Internet in lieu of paper. The Commission strongly encourages electronic filings. See 18 CFR 385.2001(a)(1)(iii) and the instructions on the Commission's Web site (http://www.ferc.gov) under the “e-Filing” link.

k. The Cushaw Project consists of the following features: (1) A 1,550-foot-long and 27-foot-high reinforced concrete dam extending diagonally across the James River; (2) a 138-acre reservoir at a surface elevation of 656 feet mean sea level; (3) an integrated powerhouse containing five generating units with a total installed capacity of 7,500 kilowatts; (4) 2.3-kilovolt (kV) generator leads; (5) a 2.3-kV cable connecting the powerhouse to the Cushaw substation; and (6) appurtenant facilities.

l. A copy of the ICD is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

m. Scoping Process: The Commission staff intends to prepare an Environmental Assessment (EA) on the project in accordance with the National Environmental Policy Act once the final license application is filed. The EA will consider both site-specific and cumulative environmental impacts and reasonable alternatives to the proposed action.

Scoping Meetings

The Commission staff will conduct a site visit, one agency scoping meeting and one public meeting. The agency scoping meeting will focus on resource agency, Indian tribes, and non-governmental organization concerns, while the public scoping meeting is primarily for public input. All interested individuals, organizations, resource agencies, and Indian tribes are invited to attend one or both of the meetings, and to assist the staff in identifying the scope of the environmental issues that should be analyzed in the EA. The times and locations of these meetings are as follows:

Site Visit

When: Thursday, April 22, 2004, 10 a.m. to noon.

Where: Meet at Rocky Row Run Boat Ramp off Routes 501 and 130 between the towns of Glasgow and Big Island, Virginia; RSVP to Applicant Contact (item h) by April 14.

Agency Scoping Meeting

When: Thursday, April 22, 2004, 1:30 p.m. to 4 p.m.

Where: Holiday Inn Express, 850 North Lee Highway, Lexington, VA.

Public Scoping Meeting

When: Thursday, April 22, 2004, 7 p.m. to 9 p.m.

Where: Big Island Elementary School, 1114 Schooldays Road, Big Island, VA.

Copies of the Scoping Document (SD1) outlining the subject areas to be addressed in the EA were distributed to the parties on the Commission's mailing list. Copies of the SD1 will be available at the scoping meeting or may be viewed on the Web at http://www.ferc.gov using the “eLibrary” link (see item l above).

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. E4-668 Filed 3-24-04; 8:45 am]

BILLING CODE 6717-01-P